ENVIRONMENTAL PROTECTION AGENCY

40 CFR Part 81

[EPA-HQ-OAR-2013-0694; FRL 9917-34-Region 5]

Identification of Nonattainment Classification and Deadlines for Submission of State Implementation Plan (SIP) Provisions for the 1997 Fine Particle (PM2.5) National Ambient Air Quality Standard (NAAQS) and 2006 PM2.5 NAAQS; Correction

AGENCY: Environmental Protection Agency (EPA).

ACTION: Correcting amendments.

SUMMARY: The Environmental Protection Agency (EPA) published a final rule in the Federal Register on June 2, 2014, updating 40 CFR part 81, “Designation of Areas for Air Quality Planning Purposes” for the 1997 and 2006 PM2.5 NAAQS nonattainment areas. An error in the table for the Wisconsin 2006 24-hour PM2.5 NAAQS in 40 CFR 81.350 is identified and corrected in this action.

DATES: This final rule is effective on October 3, 2014.

FOR FURTHER INFORMATION CONTACT: Christos Panos, Environmental Engineer, Attainment Planning and Maintenance Section, Air Programs Branch (AR-18J), Environmental Protection Agency, Region 5, 77 West Jackson Boulevard, Chicago, Illinois 60604, (312) 353-8328, panos.christos@epa.gov.

SUPPLEMENTARY INFORMATION: EPA published a final rule document on June 2, 2014, (79 FR 31566) updating 40 CFR part 81, “Designation of Areas for Air Quality Planning Purposes” for the 1997 and 2006 PM2.5 NAAQS nonattainment areas. This final rule included revisions to 40 CFR 81.350 to remove the tables titled “Wisconsin—PM2.5 (Annual NAAQS)” and “Wisconsin—PM2.5 [24-hour NAAQS]” and to add three tables titled “Wisconsin—1997 Annual PM2.5 NAAQS (Primary and Secondary)” and “Wisconsin—1997 24-hour PM2.5 NAAQS (Primary and Secondary)” and “Wisconsin—2006 24-hour PM2.5 NAAQS (Primary and Secondary)”. The entry for the Milwaukee-Racine designated area in the Wisconsin—2006 24-hour PM2.5 NAAQS table erroneously indicated that the area was designated as nonattainment when, in fact, the area had been redesignated to attainment status on April 22, 2014. 79 FR 22415. Therefore, the entry for the Milwaukee-Racine area is being corrected to reflect the correct attainment designation.

List of Subjects in 40 CFR Part 81

Environmental protection, Air pollution control, National parks, Wilderness areas.

Dated: September 22, 2014.
Susan Hedman,
Regional Administrator, Region 5.

40 CFR part 81 is corrected by making the following correcting amendments:

PART 81—DESIGNATION OF AREAS FOR AIR QUALITY PLANNING PURPOSES

1. The authority citation for part 81 continues to read as follows:

Authority: 42 U.S.C. 7401 et seq.

2. Section 81.350 is amended by revising the entry for Milwaukee-Racine, WI in the table entitled “Wisconsin—PM2.5 (24-Hour NAAQS)” to read as follows:

§ 81.350 Wisconsin.

* * * * *

Wisconsin-2006—24-Hour PM2.5 NAAQS
[Primary and Secondary]
Designated area | Designationᵃ: Date¹ | Designationᵃ: Type | Classification: Date ² | Classification: Type
Milwaukee-Racine, WI:
Milwaukee County | April 22, 2014 | Attainment |  |
Racine County | April 22, 2014 | Attainment |  |
Waukesha County | April 22, 2014 | Attainment |  |
* * * * * * *
ᵃ Includes Indian Country located in each county or area, except as otherwise specified.
¹ This date is 30 days after November 13, 2009, unless otherwise noted.
² This date is July 2, 2014, unless otherwise noted.

[FR Doc. 2014-23634 Filed 10-2-14; 8:45 am]

BILLING CODE 6560-50-P